DEPARTMENT OF THE TREASURY

Internal Revenue Service

26 CFR Part 1

[TD 8869]

RIN 1545-AU77

Subchapter S Subsidiaries; Correction

AGENCY: Internal Revenue Service (IRS), Treasury.

ACTION: Correcting amendment.

SUMMARY: This document contains corrections to final regulations (TD 8869), which were published in the Federal Register on Tuesday, January 25, 2000 (65 FR 3843), relating to the treatment of corporate subsidiaries of S corporations.

EFFECTIVE DATE: January 25, 2000.

FOR FURTHER INFORMATION CONTACT: Jeanne M. Sullivan (202) 622-3070 (not a toll-free number).

SUPPLEMENTARY INFORMATION:

Background

The final regulations that are the subject of this correction are under section 1361 of the Internal Revenue Code.

Need for Correction

As published, final regulations (TD 8869) contains an error which may prove to be misleading and is in need of clarification.

List of Subjects in 26 CFR Part 1

Income taxes, Reporting and recordkeeping requirements.

Accordingly, 26 CFR part 1 is corrected by making the following correcting amendment:

PART 1—INCOME TAXES

1. The authority citation for part 1 continues to read in part as follows:

Authority: 26 U.S.C. 7805 * * *

§ 1.1361-5 [Corrected]

2. In § 1.1361-5, paragraph (c)(1), the first sentence is amended by removing the language “paragraph (b) of this section)” and adding the language “§ 1.1362-5(b))” in its place.

Cynthia E. Grigsby,
Chief, Regulations Unit, Associate Chief Counsel (Income Tax and Accounting).

[FR Doc. 02-27042 Filed 10-23-02; 8:45 am]

BILLING CODE 4830-01-P